DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Feedback Survey for Annual Tsunami Warning Communications Test.

Form Number(s): None.

OMB Approval Number: None.

Type of Request: Regular submission.

Burden Hours: 45.

Number of Respondents: 400.

Average Hours Per Response: 5 minutes for survey; 5 minutes for respondent follow-up phone call; and 10 minutes for follow-up phone calls to additional contacts.

Needs and Uses: To assess the effectiveness of NOAA/National Weather Service's Tsunami Warning communications system, the survey is required to gather specific feedback immediately following testing, which is conducted annually in September. The post-test feedback will be requested from emergency managers, the media, law enforcement officials, and local government agencies/officials. This will be a web-based survey. The responses will be solicited for a limited period immediately following completion of this test, not to exceed two weeks. This web-based survey will allow for a rapid and efficient collection of information regarding the effectiveness of the Tsunami Warning System, particularly with respect to communications systems and related processes.

Affected Public: State, Local or Tribal Government, Federal Government; individuals or households.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 30, 2006.
Gwellnar Banks,
Management Analyst, Office of the Chief Information Officer.

[FR Doc. E6-4884 Filed 4-4-06; 8:45 am]

BILLING CODE 3510-KE-P